DEPARTMENT OF HEALTH AND HUMAN SERVICES

Office of the Secretary

Meeting of the National Human Research Protections Advisory Committee

AGENCY: Office of Public Health and Science, Office for Human Research Protections, HHS.

ACTION: Notice of first meeting.

SUMMARY: Pursuant to section 10(d) of the Federal Advisory Committee Act, as amended (5 U.S.C. Appendix 2), notice is hereby given of a meeting of the National Human Research Protections Advisory Committee.

The meeting will be open to the public, with attendance limited to space available. Individuals who plan to attend and need special assistance, such as sign language interpretation or other reasonable accommodations, should notify the contact person listed below. Individuals planning on attending the meeting and who want to ask questions must submit their questions in writing in advance of the meeting to the contact person listed below.

DATES: The Committee will hold its next meeting on December 20-21, 2000. The meeting will convene from 8:30 a.m. to its recess at 4:30 p.m. on December 20th and resume at 9 a.m. to 3 p.m. EST on December 21st.

ADDRESSES: Bethesda Marriott-Pooks Hill, 515 Pooks Hill Road, Bethesda, Maryland 20814, (301) 897-9400.

FOR FURTHER INFORMATION CONTACT: Mr. Garey Rice, Administrative Officer, Office for Human Research Protections, 6100 Executive Boulevard, Room 310B (MSC 7507), Rockville, Maryland 20892-7507, (301) 402-6003. The electronic mail address is: gr66s@nih.gov.

SUPPLEMENTARY INFORMATION: The National Human Research Protections Advisory Committee was established on June 6, 2000 to provide expert advice and recommendations to the Secretary of HHS, Assistant Secretary for Health, the Director, Office for Human Research Protections, and other departmental officials on a broad range of issues and topics pertaining to or associated with the protection of human research subjects.

Dated: November 30, 2000.
Greg Koski,
Director, Office for Human Research Protections.

[FR Doc. 00-31162 Filed 12-6-00; 8:45 am]

BILLING CODE 4160-17-M